DEPARTMENT OF COMMERCE

International Trade Administration

The Manufacturing Council: Meeting

AGENCY: International Trade Administration, U.S. Department of Commerce.

ACTION: Notice of a meeting.

SUMMARY: The Manufacturing Council will hold a meeting to discuss the Sustainable Manufacturing Initiative and the Manufacturing 2040 project.

DATES: July 23, 2008.

Time: 2 p.m. (e.d.t.).

FOR FURTHER INFORMATION CONTACT: The Manufacturing Council Executive Secretariat, Room 4043, Washington, DC 20230 (Phone: 202-482-1369), or visit the Council's Web site at http://www.manufacturing.gov/council.

Dated: July 2, 2008.
Kate Sigler,
Executive Secretary, The Manufacturing Council.

[FR Doc. 08-1421 Filed 7-3-08; 11:38 am]

BILLING CODE 3510-DR-P